DEPARTMENT OF ENERGY

Federal Energy Regulatory Commission

Combined Notice of Filings #1

October 7, 2010.

Take notice that the Commission received the following electric corporate filings:

Docket Numbers: EC11-2-000.

Applicants: Noble Wethersfield Windpark, LLC, Noble Chateaugay Windpark, LLC, Noble Bellmont Windpark, LLC, Noble Ellenburg Windpark, LLC, Noble Bliss Windpark, LLC, Noble Clinton Windpark I, LLC, Noble Great Plains Windpark, LLC, MSD Capital, L.P., Noble Altona Windpark, LLC.

Description: Application for Authorization of Transaction Pursuant to Section 203 of the Federal Power Act of Noble Altona Windpark, LLC, et al.

Filed Date: 10/06/2010.

Accession Number: 20101006-5124.

Comment Date: 5 p.m. Eastern Time on Wednesday, October 27, 2010.

Docket Numbers: EC11-3-000.

Applicants: Harbor Gen Holdings, LLC, LSP Safe Harbor Holdings, LLC, PPL University Park, LLC, PPL Wallingford Energy LLC, PPL Holtwood, LLC.

Description: Harbor Gen Holdings, LLC, LSP Safe Harbor Holdings, LLC, PPL, Joint Application For Approval Under Section 203 of the Federal Power Act and Request for Expedited Treatment.

Filed Date: 10/06/2010.

Accession Number: 20101006-5125.

Comment Date: 5 p.m. Eastern Time on Wednesday, October 27, 2010.

Take notice that the Commission received the following exempt wholesale generator filings:

Docket Numbers: EG11-3-000.

Applicants: Flat Water Wind Farm, LLC.

Description: Self-Certification of EG of Flat Water Wind Farm, LLC.

Filed Date: 10/06/2010.

Accession Number: 20101006-5055.

Comment Date: 5 p.m. Eastern Time on Wednesday, October 27, 2010.

Docket Numbers: EG11-4-000.

Applicants: Wildorado Wind Two, LLC.

Description: Notice of Self-Certification of Wildorado Wind Two, LLC as an Exempt Wholesale Generator.

Filed Date: 10/07/2010.

Accession Number: 20101007-5085.

Comment Date: 5 p.m. Eastern Time on Thursday, October 28, 2010.

Take notice that the Commission received the following electric rate filings:

Docket Numbers: ER01-1099-014; ER02-1406-015; ER99-2928-011.

Applicants: Cleco Power LLC; Acadia Power Partners, LLC; Cleco Evangeline LLC.

Description: Cleco Power LLC submits narrative responses to the Commission's eight request, supported by the files, exhibits etc. re the notice of non-material change in status 3/25/10.

Filed Date: 10/01/2010.

Accession Number: 20101004-0042.

Comment Date: 5 p.m. Eastern Time on Friday, October 22, 2010.

Docket Numbers: ER07-1247-002.

Applicants: FC Energy Services Company, LLC.

Description: Waiver request of FC Energy Services Company, LLC.

Filed Date: 10/07/2010.

Accession Number: 20101007-5067.

Comment Date: 5 p.m. Eastern Time on Thursday, October 28, 2010.

Docket Numbers: ER10-1951-001.

Applicants: NextEra Energy Services Massachusetts, LLC.

Description: NextEra Energy Services Massachusetts, LLC submits tariff filing per 35: NextEra Energy Services Mass, LLC Compliance Filing to be effective 12/31/9998.

Filed Date: 10/06/2010.

Accession Number: 20101006-5051.

Comment Date: 5 p.m. Eastern Time on Wednesday, October 27, 2010.

Docket Numbers: ER10-2068-003.

Applicants: Delaware City Refining Company LLC.

Description: Delaware City Refining Company LLC submits tariff filing per 35: Revised Market-Based Rates Tariff to be effective 10/1/2010.

Filed Date: 10/07/2010.

Accession Number: 20101007-5062.

Comment Date: 5 p.m. Eastern Time on Thursday, October 28, 2010.

Docket Numbers: ER10-2073-001.

Applicants: Northern States Power Company.

Description: Northern States Power Company submits Compliance Filing of the Certificates of Concurrences and Related Tariff Records etc., to be effective 7/30/2010.

Filed Date: 09/28/2010.

Accession Number: 20100928-5452.

Comment Date: 5 p.m. Eastern Time on Tuesday, October 19, 2010.

Docket Numbers: ER10-2077-002.

Applicants: PBF Power Marketing LLC.

Description: PBF Power Marketing LLC submits tariff filing per 35: Revised Market-Based Rates Tariff to be effective 10/1/2010.

Filed Date: 10/07/2010.

Accession Number: 20101007-5063.

Comment Date: 5 p.m. Eastern Time on Thursday, October 28, 2010.

Docket Numbers: ER10-2438-002.

Applicants: ISO New England Inc.

Description: ISO New England Inc. submits baseline tariff filing to restore tariff language previously accepted by the Commission, to be effective 8/30/2010.

Filed Date: 10/07/2010.

Accession Number: 20101007-5021.

Comment Date: 5 p.m. Eastern Time on Thursday, October 28, 2010.

Docket Numbers: ER10-2556-000.

Applicants: NRG Southaven LLC.

Description: NRG Southhaven, LLC submits a notice of Cancellation of their market-based rate tariff, FERC Electric Tariff, original Volume 1.

Filed Date: 09/08/2010.

Accession Number: 20100908-0201.

Comment Date: 5 p.m. Eastern Time on Thursday, October 21, 2010.

Docket Numbers: ER10-2614-001.

Applicants: ENMAX Energy Marketing Inc.

Description: Updated Market Power Analysis of ENMAX Energy Marketing Inc.

Filed Date: 10/06/2010.

Accession Number: 20101006-5079.

Comment Date: 5 p.m. Eastern Time on Monday, December 06, 2010.

Docket Numbers: ER10-2750-001.

Applicants: The Order of St. Benedict of New Hampshire.

Description: The Order of St. Benedict of New Hampshire submits Substitute Original Sheet 1 to Rate Schedule FERC No 1.

Filed Date: 10/06/2010.

Accession Number: 20101007-0200.

Comment Date: 5 p.m. Eastern Time on Wednesday, October 27, 2010.

Docket Numbers: ER10-2783-001.

Applicants: Arthur Kill Power LLC.

Description: Arthur Kill Power LLC submits tariff filing per 35: Arthur Kill—Amendment to Market-Based Rate Tariff to be effective 10/8/2010.

Filed Date: 10/07/2010.

Accession Number: 20101007-5008.

Comment Date: 5 p.m. Eastern Time on Thursday, October 28, 2010.

Docket Numbers: ER10-2784-001.

Applicants: Astoria Gas Turbine Power LLC.

Description: Astoria Gas Turbine Power LLC submits tariff filing per 35: Astoria Gas Turbine—Amendment to Market-Based Rate Tariff to be effective 10/8/2010.

Filed Date: 10/07/2010.

Accession Number: 20101007-5009.

Comment Date: 5 p.m. Eastern Time on Thursday, October 28, 2010.

Docket Numbers: ER10-2795-001.

Applicants: Conemaugh Power LLC.

Description: Conemaugh Power LLC submits tariff filing per 35: Conemaugh Power—Amendment to Market-Based Rate Tariff to be effective 10/8/2010.

Filed Date: 10/07/2010.

Accession Number: 20101007-5010.

Comment Date: 5 p.m. Eastern Time on Thursday, October 28, 2010.

Docket Numbers: ER10-2798-001.

Applicants: Connecticut Jet Power LLC.

Description: Connecticut Jet Power LLC submits tariff filing per 35: Connecticut Jet—Amendment to Market-Based Rate Tariff to be effective 10/8/2010.

Filed Date: 10/07/2010.

Accession Number: 20101007-5011.

Comment Date: 5 p.m. Eastern Time on Thursday, October 28, 2010.

Docket Numbers: ER10-2799-001.

Applicants: Devon Power LLC.

Description: Devon Power LLC submits tariff filing per 35: Devon Power—Amendment to Market-Based Rate Tariff to be effective 10/8/2010.

Filed Date: 10/07/2010.

Accession Number: 20101007-5012.

Comment Date: 5 p.m. Eastern Time on Thursday, October 28, 2010.

Docket Numbers: ER10-2801-001.

Applicants: Dunkirk Power LLC.

Description: Dunkirk Power LLC submits tariff filing per 35: Dunkirk—Amendment to Market-Based Rate Tariff to be effective 10/8/2010.

Filed Date: 10/07/2010.

Accession Number: 20101007-5013.

Comment Date: 5 p.m. Eastern Time on Thursday, October 28, 2010.

Docket Numbers: ER10-2846-001.

Applicants: Huntley Power LLC.

Description: Huntley Power LLC submits tariff filing per 35: Huntley—Amendment to Market-Based Rate Tariff to be effective 10/8/2010.

Filed Date: 10/07/2010.

Accession Number: 20101007-5014.

Comment Date: 5 p.m. Eastern Time on Thursday, October 28, 2010.

Docket Numbers: ER10-2875-001.

Applicants: Keystone Power LLC.

Description: Keystone Power LLC submits tariff filing per 35: Keystone—Amendment to Market-Based Rate Tariff to be effective 10/8/2010.

Filed Date: 10/07/2010.

Accession Number: 20101007-5017.

Comment Date: 5 p.m. Eastern Time on Thursday, October 28, 2010.

Docket Numbers: ER10-2878-001.

Applicants: Middleton Power LLC.

Description: Middleton Power LLC submits tariff filing per 35: Middleton—Amendment to Market-Based Rate Tariff to be effective 10/8/2010.

Filed Date: 10/07/2010.

Accession Number: 20101007-5064.

Comment Date: 5 p.m. Eastern Time on Thursday, October 28, 2010.

Docket Numbers: ER10-2879-001.

Applicants: Montville Power LLC.

Description: Montville Power LLC submits tariff filing per 35: Montville—Amendment to Market-Based Rate Tariff to be effective 10/8/2010.

Filed Date: 10/07/2010.

Accession Number: 20101007-5065.

Comment Date: 5 p.m. Eastern Time on Thursday, October 28, 2010.

Docket Numbers: ER10-2880-001.

Applicants: NEO Freehold LLC.

Description: NEO Freehold LLC submits tariff filing per 35: NEO Freehold—Amendment to Market-Based Rate Tariff to be effective 10/8/2010.

Filed Date: 10/07/2010.

Accession Number: 20101007-5066.

Comment Date: 5 p.m. Eastern Time on Thursday, October 28, 2010.

Docket Numbers: ER10-2888-001.

Applicants: Norwalk Power LLC.

Description: Norwalk Power LLC submits tariff filing per 35: Norwalk—Amendment to Market-Based Rate Tariff to be effective 10/8/2010.

Filed Date: 10/07/2010.

Accession Number: 20101007-5068.

Comment Date: 5 p.m. Eastern Time on Thursday, October 28, 2010.

Docket Numbers: ER10-2896-001.

Applicants: NRG Energy Center Dover LLC.

Description: NRG Energy Center Dover LLC submits tariff filing per 35: NRG Energy Center Dover—Amendment to Market-Based Rate Tariff to be effective 10/8/2010.

Filed Date: 10/07/2010.

Accession Number: 20101007-5070.

Comment Date: 5 p.m. Eastern Time on Thursday, October 28, 2010.

Docket Numbers: ER10-2913-001.

Applicants: NRG Energy Center Paxton LLC.

Description: NRG Energy Center Paxton LLC submits tariff filing per 35: NRG Energy Center Paxton—Amendment to Market-Based Rate Tariff to be effective 10/8/2010.

Filed Date: 10/07/2010.

Accession Number: 20101007-5074.

Comment Date: 5 p.m. Eastern Time on Thursday, October 28, 2010.

Docket Numbers: ER10-2914-001.

Applicants: NRG New Jersey Energy Sales LLC.

Description: NRG New Jersey Energy Sales LLC submits tariff filing per 35: NRG New Jersey Energy Sales—Amendment to Market-Based Rate Tariff to be effective 10/8/2010.

Filed Date: 10/07/2010.

Accession Number: 20101007-5075.

Comment Date: 5 p.m. Eastern Time on Thursday, October 28, 2010.

Docket Numbers: ER10-2915-001.

Applicants: NRG Rockford II LLC.

Description: NRG Rockford II LLC submits tariff filing per 35: NRG Rockford II—Amendment to Market-Based Rate Tariff to be effective 10/8/2010.

Filed Date: 10/07/2010.

Accession Number: 20101007-5078.

Comment Date: 5 p.m. Eastern Time on Thursday, October 28, 2010.

Docket Numbers: ER10-2916-001.

Applicants: NRG Power Marketing LLC.

Description: NRG Power Marketing LLC submits tariff filing per 35: NRG Rockford—Amendment to Market-Based Rate Tariff to be effective 10/8/2010.

Filed Date: 10/07/2010.

Accession Number: 20101007-5076.

Comment Date: 5 p.m. Eastern Time on Thursday, October 28, 2010.

Docket Numbers: ER10-2932-001.

Applicants: Somerset Power LLC.

Description: Somerset Power LLC submits tariff filing per 35: Somerset—Amendment to Market-Based Rate Tariff to be effective 10/8/2010.

Filed Date: 10/07/2010.

Accession Number: 20101007-5080.

Comment Date: 5 p.m. Eastern Time on Thursday, October 28, 2010.

Docket Numbers: ER10-2947-001.

Applicants: Vienna Power LLC.

Description: Vienna Power LLC submits tariff filing per 35: Vienna Power—Amendment to Market-Based Rate Tariff to be effective 10/8/2010.

Filed Date: 10/07/2010.

Accession Number: 20101007-5081.

Comment Date: 5 p.m. Eastern Time on Thursday, October 28, 2010.

Docket Numbers: ER10-2969-001.

Applicants: Oswego Harbor Power LLC.

Description: Oswego Harbor Power LLC submits tariff filing per 35: Oswego Harbor—Amendment to Market-Based Rate Tariff to be effective 10/8/2010.

Filed Date: 10/07/2010.

Accession Number: 20101007-5079.

Comment Date: 5 p.m. Eastern Time on Thursday, October 28, 2010.

Docket Numbers: ER10-3223-001.

Applicants: Indian River Power LLC.

Description: Indian River Power LLC submits tariff filing per 35: Indian River—Amendment to Market-Based Rate Tariff to be effective 10/8/2010.

Filed Date: 10/07/2010.

Accession Number: 20101007-5015.

Comment Date: 5 p.m. Eastern Time on Thursday, October 28, 2010.

Docket Numbers: ER11-39-000.

Applicants: Flat Water Wind Farm LLC.

Description: Flat Water Wind Farm LLC submits tariff filing per 35.12: Flat Water Wind Farm, LLC Market-Based Rate Application to be effective 10/7/2010.

Filed Date: 10/06/2010.

Accession Number: 20101006-5054.

Comment Date: 5 p.m. Eastern Time on Wednesday, October 27, 2010.

Docket Numbers: ER11-40-000; ER11-40-001.

Applicants: Arizona Public Service Company.

Description: Arizona Public Service Company submits tariff filing per 35.12: Rate Schedule No. 217, OMR Agreements between APS and Western, Part 1 of 2 to be effective 10/6/2010 and Part 2 of 2 to be effective 10/6/2010.

Filed Date: 10/06/2010.

Accession Number: 20101006-5065; 20101006-5066.

Comment Date: 5 p.m. Eastern Time on Wednesday, October 27, 2010.

Docket Numbers: ER11-41-000.

Applicants: AEP Retail Energy Partners.

Description: AEP Retail Energy Partners submits tariff filing per 35.12: 20101006 MBR AEP Retail EP Baseline to be effective 10/6/2010.

Filed Date: 10/06/2010.

Accession Number: 20101006-5077.

Comment Date: 5 p.m. Eastern Time on Wednesday, October 27, 2010.

Docket Numbers: ER11-42-000.

Applicants: Idaho Power Company.

Description: Idaho Power Company submits tariff filing per 35.13(a)(2)(iii: Revised Service Agreement for IMNAHA Oregon to be effective 10/1/2010.

Filed Date: 10/06/2010.

Accession Number: 20101006-5095.

Comment Date: 5 p.m. Eastern Time on Wednesday, October 27, 2010.

Docket Numbers: ER11-43-000.

Applicants: Black Hills Power, Inc.

Description: Black Hills Power, Inc. submits tariff filing per 35.13(a)(2)(iii: Revised BEPC NITSA to be effective 10/6/2010.

Filed Date: 10/06/2010.

Accession Number: 20101006-5113.

Comment Date: 5 p.m. Eastern Time on Wednesday, October 27, 2010.

Docket Numbers: ER11-44-000.

Applicants: Pacific Gas and Electric Company.

Description: Pacific Gas and Electric Company submits tariff filing per 35.13(a)(2)(i): PGE TRBA RSBA ECRBA 2011 Rate Filing to be effective 1/1/2011.

Filed Date: 10/06/2010.

Accession Number: 20101006-5115.

Comment Date: 5 p.m. Eastern Time on Wednesday, October 27, 2010.

Docket Numbers: ER11-45-000.

Applicants: Deutsche Bank AG.

Description: Deutsche Bank AG submits Notice of Cancellation in the form required by the Commission's regulations for the purpose of terminating its market-based electric tariff.

Filed Date: 10/06/2010.

Accession Number: 20101007-0201.

Comment Date: 5 p.m. Eastern Time on Wednesday, October 27, 2010.

Docket Numbers: ER11-46-000.

Applicants: AEP Energy Partners, Inc.

Description: AEP Energy Partners, Inc submits tariff filing per 35.12: 20101007 AEP EP MBR Baseline to be effective 8/1/2010.

Filed Date: 10/07/2010.

Accession Number: 20101007-5019.

Comment Date: 5 p.m. Eastern Time on Thursday, October 28, 2010.

Docket Numbers: ER11-47-000.

Applicants: Indiana Michigan Power Company, Appalachian Power Company, Ohio Power Company, Kingsport Power Company, Columbus Southern Power Company, Kentucky Power Company, Wheeling Power Company.

Description: Indiana Michigan Power Company submits its baseline market-based rate tariff, FERC Electric Tariff, First Revised Volume No 5, to be effective 10/8/2010.

Filed Date: 10/07/2010.

Accession Number: 20101007-5020.

Comment Date: 5 p.m. Eastern Time on Thursday, October 28, 2010.

Docket Numbers: ER11-48-000.

Applicants: ISO New England Inc.

Description: ISO New England Inc. submits tariff filing per 35: Compliance Filing to Incorporate ER09-1051-004 Approved Revisions into eTariff to be effective 8/30/2010.

Filed Date: 10/07/2010.

Accession Number: 20101007-5061.

Comment Date: 5 p.m. Eastern Time on Thursday, October 28, 2010.

Docket Numbers: ER11-50-000.

Applicants: ISO New England Inc.

Description: ISO New England Inc. submits tariff filing per 35: Compliance Filing to Incorporate ER10-2232-000 Approved Revisions into eTariff to be effective 8/30/2010.

Filed Date: 10/07/2010.

Accession Number: 20101007-5082.

Comment Date: 5 p.m. Eastern Time on Thursday, October 28, 2010.

Docket Numbers: ER11-51-000.

Applicants: Mississippi Power Company.

Description: Mississippi Power Company submits tariff filing per 35: MRA Tariff Initial Filing to be effective 10/7/2010.

Filed Date: 10/07/2010.

Accession Number: 20101007-5083.

Comment Date: 5 p.m. Eastern Time on Thursday, October 28, 2010.

Docket Numbers: ER11-52-000.

Applicants: ISO New England Inc.

Description: ISO New England Inc. submits tariff filing per 35: Compliance Filing to Incorporate ER07-397-005 Approved Revisions into eTariff to be effective 8/30/2010.

Filed Date: 10/07/2010.

Accession Number: 20101007-5097.

Comment Date: 5 p.m. Eastern Time on Thursday, October 28, 2010.

Docket Numbers: ER11-53-000.

Applicants: FC Energy Services Company, LLC.

Description: FC Energy Services Company, LLC submits tariff filing per 35.12: FC Energy MBR Baseline to be effective 10/7/2010.

Filed Date: 10/07/2010.

Accession Number: 20101007-5127.

Comment Date: 5 p.m. Eastern Time on Thursday, October 28, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. 2010-26042 Filed 10-14-10; 8:45 am]

BILLING CODE 6717-01-P